DEPARTMENT OF HEALTH AND HUMAN SERVICES

Centers for Disease Control and Prevention

National Center for Health Statistics (NCHS), Classifications and Public Health Data Standards Staff; Meeting

Name: ICD-10 Coordination and Maintenance (C&M) Committee meeting.

Times and Dates: 9 a.m.-5 p.m., September 22-23, 2015.

Place: Centers for Medicare and Medicaid Services (CMS) Auditorium, 7500 Security Boulevard, Baltimore, Maryland 21244.

Status: Open to the public, limited only by the space available. The meeting room accommodates approximately 240 people. We will be broadcasting the meeting live via Webcast at hhtp://www.cms.gov/live/.

Security Considerations: Due to increased security requirements CMS has instituted stringent procedures for entrance into the building by non-government employees. Attendees will need to present valid government-issued picture identification, and sign-in at the security desk upon entering the building.

Attendees who wish to attend the September 22-23, 2015 ICD-10-CM C&M meeting must submit their name and organization by September 11, 2015 for inclusion on the visitor list. This visitor list will be maintained at the front desk of the CMS building and used by the guards to admit visitors to the meeting.

Please register to attend the meeting on-line at: http://www.cms.hhs.gov/apps/events/. Please contact Mady Hue (410-786-4510 or Marilu.hue@cms.hhs.gov), for questions about the registration process.

Participants who attended previous Coordination and Maintenance meetings will no longer be automatically added to the visitor list. You must request inclusion of your name prior to each meeting you wish attend.

Purpose: The ICD-10 Coordination and Maintenance (C&M) Committee is a public forum for the presentation of proposed modifications to the International Classification of Diseases, Tenth Revision, Clinical Modification and ICD-10 Procedure Coding System.

Matters To Be Discussed: Agenda items include:

September 22-23, 2015

ICD-10-PCS Topics:

Branched and Fenestrated Endograft Repair of Aortic Aneurysms

Cerebral Embolic Protection during Transcatheter Aortic Valve Replacement (TAVR)

Endovascular Repair of Aortic Aneurysm via Entire Sac-Sealing

Leadless Pacemakers

Repair of Total Anomalous Pulmonary Venous Return (TAPVR) Addenda Updates

ICD-10-CM Diagnosis Topics:

Acute Kidney Injury (AKI)

Amyotrophic Lateral Sclerosis (ALS)

Amblyopia

Asthma

Blindness/Low vision

Caries Risk Levels

Chronic kidney disease (CKD)

Epilepsy

External cause codes for over exertion; repetitive motion

Heart Failure

Hypophosphatasia

Lysosomal acid lipase

Non-exudative AMD

Prolapse vaginal vault

ICD-10-CM Addendum

Agenda items are subject to change as priorities dictate.

Note: CMS and NCHS no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons For Additional Information: Donna Pickett, Medical Systems Administrator, Classifications and Public Health Data Standards Staff, NCHS, 3311 Toledo Road, Hyattsville, Maryland 20782, email dfp4@cdc.gov, telephone 301-458-4434 (diagnosis); Mady Hue, Health Insurance Specialist, Division of Acute Care, CMS, 7500 Security Boulevard, Baltimore, Maryland 21244, email marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Catherine Ramadei,
Acting Director, Management Analysis and Services Office, Centers for Disease Control and Prevention.

[FR Doc. 2015-21160 Filed 8-26-15; 8:45 am]

BILLING CODE 4160-18-P